DEPARTMENT OF ENERGY

Federal Energy Regulatory Commission

[Docket No. CP13-193-000]

Aguirre Offshore GasPort, LLC; Notice of Availability of the Final Environmental Impact Statement for the Proposed Aguirre Offshore Gasport Project

The staff of the Federal Energy Regulatory Commission (FERC or Commission) has prepared a final environmental impact statement (EIS) for the Aguirre Offshore GasPort Project (Project), proposed by Aguirre Offshore GasPort, LLC (Aguirre LLC), a wholly owned subsidiary of Excelerate Energy, LP in the above-referenced docket. Aguirre LLC is seeking authorization from the FERC to develop, construct, and operate a liquefied natural gas (LNG) import terminal off the southern coast of Puerto Rico.

The final EIS assesses the potential environmental effects of the construction and operation of the Aguirre Offshore GasPort Project in accordance with the requirements of the National Environmental Policy Act (NEPA). Construction and operation of the Project would result in mostly temporary and short-term environmental impacts; however, some long-term and permanent environmental impacts would occur. The FERC staff concluded that approval of the proposed Project, with the mitigation measures recommended in the EIS, would result in limited adverse environmental impacts.

The U.S. Environmental Protection Agency (EPA), U.S. Coast Guard, U.S. Department of Transportation, U.S. Department of Energy, U.S. Department of Agriculture, Puerto Rico Permits Management Office, Puerto Rico Environmental Quality Board, Puerto Rico Planning Board, Puerto Rico Department of Natural and Environmental Resources, and Puerto Rico Department of Health participated as cooperating agencies in the preparation of the EIS. Cooperating agencies have jurisdiction by law or special expertise with respect to resources potentially affected by the proposal, and participate in the NEPA analysis. In addition, other federal, state, and local agencies may use this EIS in approving or issuing permits for all or part of the proposed Project. Although the cooperating agencies provided input to the conclusions and recommendations presented in the final EIS, the agencies will present their own conclusions and recommendations in their respective Records of Decision for the Project.

The U.S. Army Corps of Engineers, U.S. Fish and Wildlife Service, and National Oceanic and Atmospheric Administration, National Marine Fisheries Service also provided assistance in preparing this EIS as permitting and consulting agencies.

The Project is being developed in cooperation with the Puerto Rico Electric Power Authority (PREPA) for the purpose of receiving, storing, and regasifying the LNG to be acquired by PREPA; and delivering natural gas to PREPA's existing Aguirre Power Complex (Aguirre Plant) in Salinas, Puerto Rico. The Project will help diversify Puerto Rico's energy sources, allow the Aguirre Plant to meet the EPA's Mercury and Air Toxics Standard rule, reduce fuel oil barge traffic in Jobos Bay, and contribute to price stabilization for power in the region. The final EIS addresses the potential environmental effects of the construction and operation of the following Project facilities:

• An offshore berthing platform;

• an offshore marine LNG receiving facility;

• a Floating Storage and Regasification Unit moored at the offshore berthing platform;

• visiting LNG carriers; and

• a 4.0-mile-long (6.4 kilometer) subsea pipeline connecting the Offshore GasPort to the Aguirre Plant.

The FERC staff mailed copies of the final EIS to federal, state, and local government representatives and agencies; elected officials; environmental and public interest groups; other interested individuals and groups; newspapers and libraries in the Project area; and parties to this proceeding. The final EIS was also translated in Spanish. Paper copy versions of this EIS in English were mailed to those specifically requesting them; all others received a CD version. To accommodate translation, paper copy and CD versions of this EIS in Spanish are scheduled to be mailed out about two weeks after the English version. In addition, the final EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the Project is available from the Commission's Office of External Affairs, at (866) 208-FERC, or on the FERC (www.ferc.gov) using the eLibrary link. Click on the eLibrary link, click on “General Search,” and enter the docket number excluding the last three digits in the Docket Number field (i.e., CP13-193). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to http://www.ferc.gov/docs-filing/esubscription.asp.

Dated: February 20, 2015.
Kimberly D. Bose,
Secretary.

[FR Doc. 2015-03999 Filed 2-25-15; 8:45 am]

BILLING CODE 6717-01-P